ENVIRONMENTAL PROTECTION AGENCY

[FRL-9186-8]

Tribal Drinking Water Operator Certification Program

AGENCY: Environmental Protection Agency (EPA).

ACTION: Notice.

SUMMARY: This notice announces the program details of EPA's voluntary Tribal Drinking Water Operator Certification Program, effective October 1, 2010. The program enables qualified drinking water operators at public water systems in Indian country to be recognized as certified operators by EPA. This program will provide the benefits of certification to both the public water system operators and the Tribal communities they serve. Through the training required to receive and maintain certification, operators learn how to supply drinking water that meets national standards and gain understanding of the associated public health benefits. Certification demonstrates the operator has the skills, knowledge, education and experience necessary to deliver safe water supporting consumer confidence. Certification designates the water system operator as a public health professional and demonstrates the operator has the skills, knowledge, education and experience necessary to deliver safe water supporting consumer confidence.

FOR FURTHER INFORMATION CONTACT: The Safe Drinking Water Hotline, toll free 1-800-426-4791, can be contacted for general information about this document. For technical inquiries please contact Ronald Bergman, Office of Ground Water and Drinking Water, Drinking Water Protection Division, Protection Branch, 4606M, Environmental Protection Agency, 1200 Pennsylvania Ave., NW., Washington, DC 20460; telephone number: 202-564-3823, e-mail address: bergman.ronald@epa.gov.

SUPPLEMENTARY INFORMATION:

A. How can I get copies of this document and other related information?

1. Electronic Access. EPA's Tribal Drinking Water Operator Certification Program updates and application materials regarding this program can be found at http://www.epa.gov/safewater/tribal.html.

2. Hard Copies. Hard copies of EPA's Tribal Drinking Water Operator Certification Program are available upon request. Please contact Kyle Carey, Office of Ground Water and Drinking Water, Drinking Water Protection Division, Protection Branch, 4606M, Environmental Protection Agency, 1200 Pennsylvania Ave., NW., Washington, DC 20460; telephone number: 202-564-2322, e-mail: carey.kyle@epa.gov.

B. Approved Providers and Reciprocity

Although participation in this Certification Program is voluntary, EPA requires a Tribe to have, or agree to obtain within a certain time frame, a certified operator(s) for their public drinking water system(s) in order to secure funds in the Drinking Water Infrastructure Grant Tribal Set-Aside (DWIG TSA) program. The Federal drinking water regulations require some system operators to be “qualified.” Participation in EPA's Tribal Drinking Water Operator Certification program meets this requirement. Operators certified through this program will be listed by the Region on their “register” pursuant to the regulations (i.e., CFR 141.130(c)). The EPA Tribal Drinking Water Operator Certification program is available in the nine EPA regions with federally recognized Tribes. Public water system operators in Indian country seeking certification and/or interested in the EPA national program should contact the Association of Boards of Certification (ABC), 208 5th Street, Suite 201 Ames, IA 50010-6259; telephone number: 515-232-3623, fax: 515-232-3778, http://www.abccert.org or the Intertribal Council of Arizona (ITCA), 2214 North Central Avenue, Suite 100, Phoenix, AZ 85004, telephone number: 602-258-4822, fax: 602-258-4825, http://www.itcaonline.com. Additional providers may be added per EPA approval.

Under the EPA Tribal Drinking Water Operator Certification Program, reciprocity will be extended to any operators already certified by a State with an approved operator certification program and on a case-by-case basis to operators already certified by other EPA-approved providers pre-dating this program.

Dated: August 4, 2010.
Cynthia C. Dougherty,
Director, Office of Ground Water and Drinking Water.

[FR Doc. 2010-19715 Filed 8-9-10; 8:45 am]

BILLING CODE 6560-50-P